PRESIDIO TRUST

Notice of Establishment of the Fort Winfield Scott Advisory Committee

AGENCY: The Presidio Trust.

ACTION: Notice of establishment of the Fort Winfield Scott Advisory Committee.

SUMMARY: Pursuant to the Federal Advisory Committee Act, as amended (5 U.S.C. Appendix 2), the Executive Director of the Presidio Trust announces the intent to establish the Fort Winfield Scott Advisory Committee (“Committee”). The Committee will advise the Executive Director of the Presidio Trust on matters pertaining to the rehabilitation and reuse of Fort Winfield Scott as a new national center focused on service and leadership development.

DATES: Nominations for members must be received on or before December 16, 2011.

ADDRESSES: All nominations should be submitted to Joshua Steinberger, Senior Advisor to the Executive Director, at 34 Graham Street, P.O. Box 29052, San Francisco, CA 94129-0052. The Committee's charter and membership balance plan are web accessible at http://www.fido.gov/facadatabase/.

FOR FURTHER INFORMATION CONTACT: Joshua Steinberger, Presidio Trust, 34 Graham Street, P.O. Box 29052, San Francisco, CA 94129-0052. phone (415) 561-5367 or email jsteinberger@presidiotrust.gov.

SUPPLEMENTARY INFORMATION: Background and Authority: Pursuant to the Federal Advisory Committee Act, as amended (5 U.S.C. Appendix 2), the Executive Director of the Presidio Trust announces the intent to establish the Fort Winfield Scott Advisory Committee. The Executive Director of the Presidio Trust, in consultation with the Chair of the Board of Directors, has determined that the Committee is in the public interest and supports the Presidio Trust in performing its duties and responsibilities under the Presidio Trust Act, 16 U.S.C. 460bb appendix.

The Committee will advise on the establishment of a new national center (“Center”) focused on service and leadership development, with specific emphasis on: (a) Assessing the role and key opportunities of a national center dedicated to service and leadership at Fort Scott in the Presidio of San Francisco; (b) providing recommendations related to the Center's programmatic goals, target audiences, content, implementation, and evaluation; (c) providing guidance on a phased development approach that leverages a combination of funding sources including philanthropy; and (d) making recommendations on how to structure the Center's business model to best achieve the Center's mission and ensure long-term financial self-sufficiency.

Structure: The Committee shall consist of up to 15 members with a demonstrated interest in advancing service to community and country and/or expertise in building the capacity of organizations to tackle society's most pressing challenges through innovative approaches, including cross-sector collaboration. Members will be selected with regard to the Committee's collective representation of public, for-profit, non-profit, and academic perspectives.

Committee members will be selected in accordance with the candidate identification process detailed in the Committee's Membership Balance Plan (accessible at http://fido.gov/facadatabase/). Members will serve for a term of two years without compensation, but may receive transportation expenses, including per diem in lieu of subsistence, to the extent permissible by law and subject to the availability of resources. Meetings will occur at an estimated frequency of once every three months.

Nominations: The Presidio Trust will consider nominations of all qualified individuals to ensure that the Committee includes the areas of subject matter expertise noted above (see “Structure”). Potential candidates may be asked to provide detailed information as necessary regarding financial interests, employment, and professional affiliations to evaluate possible sources of conflicts of interest.

Each nomination should include: (1) The nominee's name, affiliation, and contact information; (2) a cover letter describing the nominee's qualifications or interest in serving on the Committee; and (3) a copy of the nominee's biography and/or curriculum vitae. The Presidio Trust encourages applications from diverse nominees with respect to backgrounds, professions, ethnicities, gender, and geography. Self-nominations are acceptable.

Dated: November 14, 2011.
Karen A. Cook,
General Counsel.

[FR Doc. 2011-29878 Filed 11-17-11; 8:45 am]

BILLING CODE 4310-4R-P